DEPARTMENT OF LABOR

Employment and Training Administration

Notice of a Change in Status of an Extended Benefit (EB) Period for Rhode Island

AGENCY: Employment and Training Administration, Labor.

ACTION: Notice.

SUMMARY: This notice announces a change in benefit period eligibility under the EB Program for Rhode Island.

The following change has occurred since the publication of the last notice regarding the State's EB status:

• Effective October 21, 2008, Rhode Island's 3-month seasonally adjusted total unemployment rate rose to 8.4 percent, exceeding the 8 percent threshold. This causes the State to be triggered “on” to a high unemployment period (HUP) in the EB program period beginning November 9, 2008.

Information for Claimants

The duration of benefits payable in the EB Program, and the terms and conditions on which they are payable, are governed by the Federal-State Extended Unemployment Compensation Act of 1970, as amended, and the operating instructions issued to the states by the U.S. Department of Labor. In the case of a state beginning a HUP period, the State Workforce Agency will furnish a written notice of potential entitlement to each individual who may be eligible for increased benefits due to the HUP (20 CFR 615.13 (c) (1)). Persons who wish to inquire about their rights under the program, should contact their state workforce agency.

FOR FURTHER INFORMATION CONTACT: Scott Gibbons, U.S. Department of Labor, Employment and Training Administration, Office of Workforce Security, 200 Constitution Avenue, NW., Frances Perkins Bldg. Room S-4231, Washington, DC 20210, telephone number (202) 693-3008 (this is not a toll-free number) or by e-mail: gibbons.scott@dol.gov.

Signed in Washington, DC, this 28th day of October 2008.
Brent R. Orrell,
Deputy Assistant Secretary of Labor for Employment and Training.

[FR Doc. E8-26136 Filed 10-31-08; 8:45 am]

BILLING CODE 4510-FW-P